DEPARTMENT OF TRANSPORTATION

Surface Transportation Board

[STB Finance Docket No. 35170]

Landisville Railroad, LLC—Acquisition and Operation Exemption—The Landisville Railroad Inc. and Landisville Terminal & Transfer Company

Landisville Railroad, LLC (LRR), a noncarrier, has filed a verified notice of exemption under 49 CFR 1150.31 to acquire from Landisville Railroad, Inc. (LRI), and operate approximately 1.92 miles of rail line between milepost 30.77± at the connection to Norfolk Southern Railway (NSR) on National Railroad Passenger Corporation's (Amtrak's) Harrisburg Line and milepost 32.69± at the end of track south of Nolt Road and north of Stony Battery Road, in West Hempfield, Lancaster County, PA.¹

¹ On August 4, 2008, LRR filed a correction to its verified notice of exemption filed on July 31, 2008, amending the description of the line to reflect that the acquired line ends at milepost 32.69± instead of milepost 33.75±.

The line is currently operated by Landisville Terminal & Transfer Company (LT&T). LLR states that, as a result of this transaction, LT&T will terminate its current lease of the line and assign all of its rights to the line to LRR.² LRR states that, after consummation, it will be the owner and operator of the rail line.³

² LRR clarified, in its correction, that LT&T is not being acquired by LRR.

³ LRR states that it is also acquiring an adjacent rail yard that is owned by Amherst Industries of Pennsylvania, Inc., a corporate affiliate of LRI, and operated by LT&T, but further states that, pursuant to 49 U.S.C. 10906, this acquisition of yard track does not require authorization of the Board.

According to LRR, it will interchange with NSR at Landisville, PA, and that there are no existing interchange commitments with NSR as the third-party connecting carrier, and none are contemplated by this transaction.

The effective date of the exemption is August 30, 2008. The transaction is scheduled to be consummated on or after August 31, 2008 (more than 30 days after the notice of exemption was filed).⁴

⁴ LRR states that the terms of the agreement between LRRR, LRI and LT&T are being finalized and that it expects to enter into an agreement on or after August 31, 2008.

LRR certifies that its projected annual revenues as a result of this transaction will not exceed those that qualify it as a Class III rail carrier.

Pursuant to the Consolidated Appropriations Act, 2008, Pub. L. No. 110-161, § 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions to stay must be filed no later than August 22, 2008 (at least 7 days before the exemption becomes effective).

An original and 10 copies of all pleadings, referring to STB Finance Docket No. 35170 must be filed with the Surface Transportation Board, 395 E Street, SW., Washington, DC 20423-0001. In addition, a copy must be served on Eric M. Hocky, Thorp Reed & Armstrong, LLP, One Commerce Square, 2005 Market Street, Suite 1910, Philadelphia, PA 19103.

Board decisions and notices are available on our Web site at http://www.stb.dot.gov.

Decided: August 8, 2008.
By the Board, Joseph H. Dettmar, Acting Director, Office of Proceedings.
Anne K. Quinlan,
Acting Secretary.

[FR Doc. E8-18867 Filed 8-14-08; 8:45 am]

BILLING CODE 4915-01-P